DEPARTMENT OF COMMERCE

National Telecommunications and Information Administration

Proposed Information Collection; Comment Request; Technology Opportunities Program Reviewer Information Form

ACTION: Notice.

SUMMARY: The Department of Commerce, as a part of its continuing effort to reduce paperwork and respondent burden, invites the general public and other Federal agencies to take this opportunity to comment on proposed and/or continuing information collections, as required by the Paperwork Reduction Act of 1995, Public Law 104-13 (44 U.S.C. 3506 (c)(2)(A)).

DATES: Written comments must be submitted on or before January 18, 2002.

ADDRESSES: Direct all written comments to Madeleine Clayton, Departmental Paperwork Clearance Officer, Department of Commerce, Room 6086, 14th and Constitution Avenue, NW, Washington, DC 20230 (or via the Internet mclayton@doc.gov).

FOR FURTHER INFORMATION CONTACT: Requests for additional information or copies of the information collection instrument(s) and instructions should be directed to Clifton Beck, NTIA, Room H-4888, U.S. Department of Commerce, 14th and Constitution Avenue, NW, Washington, DC 20230.

SUPPLEMENTARY INFORMATION

I. Abstract

The Technology Opportunities Program (TOP) promotes the widespread availability and use of digital network technologies in the public and non-profit sectors. To accomplish this objective, TOP provides matching grants to state, local, and tribal governments and non-profit entities for model projects that demonstrate innovative uses of digital network technologies in underserved communities. TOP projects address specific challenges and realize opportunities for change in such areas as lifelong learning, community and economic development, government and public services, safety, health, culture, and the arts.

Since 1994, TOP has made matching grants to state, local and tribal governments, health care providers, schools, libraries, police departments, and community-based non-profit organizations. To date, TOP has awarded 530 grants, in all 50 states, Puerto Rico, the District of Columbia, and the U.S. Virgin Islands, totaling $192.5 million and leveraging $268 million in local matching funds.

As part of TOP's process to select projects for funding, external experts are used to review applications. Collection of information about potential reviewers is used to determine their eligibility and availability and to facilitate payment for services rendered if they are selected to review.

Currently, TOP is exploring options to redesign the processes for becoming a reviewer of grant applications. The goals of the redesign process are to improve the ease for registering to become a reviewer and reduce the cost (to the agency) of the identification, selection, and notification of an individual's review status. To accomplish these goals, TOP proposes to offer both an Internet-based and a paper-based form for the submission of reviewer information.

II. Method of Collection

Electronic and paper form.

III. Data

OMB Number: 0660-0010.

Form Number: None.

Type of Review: Regular Submission.

Affected Public: State and local government, not-for-profit institutions, and business and for-profit organizations.

Estimated Number of Respondents: 130.

Estimated Time Per Response: 10 minutes.

Estimated Total Annual Burden Hours: 42.

Estimated Total Annual Cost: 0.

IV. Request for Comments

Comments are invited on: (a) Whether the proposed collection of information is necessary for the proper performance of the functions of the program, including whether the information shall have practical utility; (b) the accuracy of the agency's estimate of the burden of collection of information; (c) ways to enhance the quality, utility and clarity of the information to be collected; and (d) ways to minimize the burden of the collection of information on respondents, including through the use of automated collection techniques or other forms of information technology.

Comments submitted in response to this notice will be summarized and/or included in the request for OMB approval of the information collection; they also become a matter of public record.

Dated: November 13, 2001.
Gwellnar Banks,
Management Analyst, Office of the Chief Information Officer.

[FR Doc. 01-28793 Filed 11-16-01; 8:45 am]

BILLING CODE 3510-60-P